DEPARTMENT OF ENERGY

Federal Energy Regulatory Commission

Combined Notice of Filings

Take notice that the Commission has received the following Natural Gas Pipeline Rate and Refund Report filings:

Filings Instituting Proceedings

Docket Numbers: PR23-32-000.

Applicants: Black Hills/Kansas Gas Utility Company, LLC.

Description: § 284.123 Rate Filing: BHKG Revised Statement of Rates to be effective 2/1/2023.

Filed Date: 2/14/23.

Accession Number: 20230214-5148.

Comment Date: 5 p.m. ET 3/7/23.

Docket Numbers: RP23-439-000.

Applicants: Kinder Morgan Illinois Pipeline LLC.

Description: Compliance filing: Penalty Revenue Annual Report for 2022 to be effective N/A.

Filed Date: 2/15/23.

Accession Number: 20230215-5031.

Comment Date: 5 p.m. ET 2/27/23.

Docket Numbers: RP23-440-000.

Applicants: Kinder Morgan Louisiana Pipeline LLC.

Description: Compliance filing: Penalty Revenue Crediting Report-KMLP 12 months ending December 2022 to be effective N/A.

Filed Date: 2/15/23.

Accession Number: 20230215-5032.

Comment Date: 5 p.m. ET 2/27/23.

Docket Numbers: RP23-441-000.

Applicants: National Fuel Gas Supply Corporation.

Description: Compliance filing: Fuel Tracker Filing GT&C 41 (2023) to be effective 4/1/2023.

Filed Date: 2/15/23.

Accession Number: 20230215-5035.

Comment Date: 5 p.m. ET 2/27/23.

Docket Numbers: RP23-442-000.

Applicants: Empire Pipeline, Inc.

Description: § 4(d) Rate Filing: Empire Fuel Tracker Per GT&C 23.3 (2023) to be effective 4/1/2023.

Filed Date: 2/15/23.

Accession Number: 20230215-5069.

Comment Date: 5 p.m. ET 2/27/23.

Docket Numbers: RP23-443-000.

Applicants: Southern Natural Gas Company, L.L.C.

Description: Compliance filing: Abandon Multiple X-Rate Schedules Compliance Filing 2023 to be effective 4/1/2023.

Filed Date: 2/15/23.

Accession Number: 20230215-5088.

Comment Date: 5 p.m. ET 2/27/23.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 15, 2023.
Debbie-Anne A. Reese,
Deputy Secretary.

[FR Doc. 2023-03630 Filed 2-21-23; 8:45 am]

BILLING CODE 6717-01-P